FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011261-009.

Title: ACL/Wallenius Wilhelmsen Lines Agreement.

Parties: Atlantic Container Line AB and Wallenius Wilhelmsen Logistics AS (“WWL”).

Filing Party: Wayne R. Rohde, Esq.; Cozen O'Connor; 1627 I Street, NW., Suite 1100; Washington, DC 20006.

Synopsis: The amendment extends the duration of the Agreement through 2015, clarifies the geographic scope and the amount of space to be purchased, and restates the Agreement.

Agreement No.: 012108.

Title: The World Liner Data Agreement.

Parties: A.P. Moller-Maersk A/S; CMA CGM S.A.; Compania Chilena de Navegacion Interoceanica S.A.; Hamburg-Sud; Hapag-Lloyd AG; Mediterranean Shipping Company S.A.; Orient Overseas Container Line Ltd.; and United Arab Shipping Company S.A.G.

Filing Party: Wayne Rohde, Esq.; Cozen O'Connor; 627 I Street, NW.; Suite 1100; Washington, DC 20006.

Synopsis: The pending agreement has been changed to include MSC as a party to the Agreement.

Agreement No.: 012109.

Title: CSAV/Hoegh Autoliners Mexico/USA Space Charter Agreement.

Parties: Compania Sud Americana De Vapores S.A. and Hoegh Autoliners AS.

Filing Parties: Walter H. Lion, Esq.; McLaughlin & Stern, LLP; 260 Madison Avenue; New York, NY 10016.

Synopsis: The agreement authorizes CSAV to charter space from Hoegh Autoliners in the trade from ports in Mexico to the U.S. Atlantic ports.

Agreement No.: 012110.

Title: Trailer Bridge/HLUSA Space Charter Agreement.

Parties: Hapag-Lloyd USA, LLC and Trailer Bridge, Inc.

Filing Parties: Marc J. Fink, Esq.; Cozen O'Connor; 1627 I Street, NW., Suite 1100; Washington, DC 20006.

Synopsis: The agreement authorizes Trailer Bridge, Inc. to charter space to Hapag Lloyd in the trade from Jacksonville, FL to the Dominican Republic on an “as needed/as available” basis.

By Order of the Federal Maritime Commission.
Dated: November 5, 2010
Karen V. Gregory,
Secretary.

[FR Doc. 2010-28422 Filed 11-9-10; 8:45 am]

BILLING CODE P